ENVIRONMENTAL PROTECTION AGENCY

[EPA-HQ-OPP-2010-0576; FRL-8840-8]

Issuance of an Experimental Use Permit by the State of Florida

AGENCY: Environmental Protection Agency (EPA).

ACTION: Notice.

SUMMARY: The State of Florida has granted an experimental use permit (EUP) to the following pesticide applicant, SpringStar, Inc. EPA Company Number 66433, P.O. Box 2622, Woodinville, WA 98072. An EUP permits use of a pesticide for experimental or research purposes only in accordance with the limitations in the permit. EPA is publishing this document, pursuant to 40 CFR 172.26(a)(3). Notice of receipt of this permit does not imply a decision by the Agency on the permit.

FOR FURTHER INFORMATION CONTACT: Kevin Sweeney, Registration Division (7505P), Office of Pesticide Programs, Environmental Protection Agency, 1200 Pennsylvania Ave., NW., Washington, DC 20460-0001; telephone number: (703) 305-5063; e-mail address: sweeney.kevin@epa.gov.

Florida state contact: Dennis F. Howard, Chief, Bureau of Pesticides; telephone number: (850) 487-0532; e-mail address: howardd@doacs.state.fl.us.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the people listed under FOR FURTHER INFORMATION CONTACT.

B. How Can I Get Copies of this Document and Other Related Information?

EPA has established a docket for this action under docket identification (ID) number EPA-HQ-OPP-2010-0576. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. State of Florida EUP

The State of Florida has issued the following EUP:

EUP number FL10-EUP-01. Issuance. Florida Department of Agriculture and Consumer Services, Bureau of Pesticides, 3125 Conner Blvd., Bldg. 6 (MS L6), Tallahassee, FL 32399-1650. This EUP allows the use of 80 milligrams (mg) of the insecticide 2-methyl [1,1′-biphenyl]-3-yl) methyl-3-(2-chloro-3,3,3,-trifluoro-1-propenyl)-2,2 on 1 acre of residential areas to determine if the addition of mosquito ovitrap strips (Trap-N-Kill™), impregnated with bifenthrin to existing mosquito management practices, will significantly reduce the abundance of the dengue mosquito vector, Aedes aegypti, in Key West, Florida. The program is authorized only in the State of Florida. The EUP is effective until December 31, 2010.

Authority: 7 U.S.C. 136c.

List of Subjects

Environmental protection, Experimental use permits.

Dated: August 5, 2010.
Lois Rossi,
Director, Registration Division, Office of Pesticide Programs.

[FR Doc. 2010-20320 Filed 8-17-10; 8:45 am]

BILLING CODE 6560-50-S